DEPARTMENT OF THE INTERIOR

National Park Service

[NPS-WASO-NAGPRA-NPS0029318; PPWOCRADN0-PCU00RP14.R50000]

Notice of Intent To Repatriate Cultural Items: Federal Bureau of Investigation, Art Theft Program, Washington, DC

AGENCY: National Park Service, Interior.

ACTION: Notice.

SUMMARY: The Federal Bureau of Investigation (FBI), in consultation with the appropriate Indian Tribes or Native Hawaiian organizations, has determined that the cultural item listed in this notice meets the definition of a sacred object. Lineal descendants or representatives of any Indian Tribe or Native Hawaiian organization not identified in this notice that wish to claim this cultural item should submit a written request to the FBI. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the FBI at the address in this notice by February 3, 2020.

ADDRESSES: Federal Bureau of Investigation, FBI Headquarters, Attn: Supervisory Special Agent Timothy Carpenter, Art Theft Program, 935 Pennsylvania Avenue NW, Washington, DC 20535, telephone (954) 931-3670, email artifacts@ic.fbi.gov.

SUPPLEMENTARY INFORMATION: Notice is here given in accordance with the Native American Graves Protection and Repatriation Act (NAGPRA), 25 U.S.C. 3005, of the intent to repatriate a cultural item under the control of the Federal Bureau of Investigation, Washington, DC, that meets the definition of a sacred object under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

At an unknown date, one sacred object was acquired and transported to the East Coast, where it remained part of a private collection of Native American antiquities, art, and cultural heritage. In the spring of 2018, this item was seized by the FBI as part of a criminal investigation. The item is a ceremonial object that had been misidentified by the collector as a “mask.”

Through multiple consultations with representatives of the Pueblo of Zuni and the expertise of archeologists from museums and universities in the region, the item is culturally affiliated with the Pueblo of Zuni in New Mexico.

Determinations Made by the Federal Bureau of Investigation

Officials of the Federal Bureau of Investigation have determined that:

• Pursuant to 25 U.S.C. 3001(3)(C), the one cultural item is a specific ceremonial object needed by traditional Native American religious leaders for the practice of traditional Native American religions by their present-day adherents.

• Pursuant to 25 U.S.C. 3001(2), there is a relationship of shared group identity that can be reasonably traced between the sacred object and the Zuni Tribe of the Zuni Reservation, New Mexico.

Additional Requestors and Disposition

Lineal descendants or representatives of any Indian Tribe or Native Hawaiian organization not identified in this notice that wish to claim these cultural items should submit a written request with information in support of the claim to Federal Bureau of Investigation, FBI Headquarters, Attn: Supervisory Special Agent Timothy Carpenter, Art Theft Program, 935 Pennsylvania Avenue NW, Washington, DC 20535, telephone (954) 931-3670, email artifacts@ic.fbi.gov, by February 3, 2020. After that date, if no additional claimants have come forward, transfer of control of the sacred object to the Zuni Tribe of the Zuni Reservation, New Mexico may proceed.

The Federal Bureau of Investigation is responsible for notifying the Zuni Tribe of the Zuni Reservation, New Mexico that this notice has been published.

Dated: November 14, 2019.
Melanie O'Brien,
Manager, National NAGPRA Program.

[FR Doc. 2019-28382 Filed 1-2-20; 8:45 am]

BILLING CODE 4312-52-P